Title 3—

The President

Proclamation 9967 of November 22, 2019

National Family Week, 2019

By the President of the United States of America

A Proclamation

The strength of our Republic is not measured only by our military might and robust economy but also by the strength of our family bonds. Families shape our values, develop our character, and teach us to love, forgive, and become productive citizens and responsible members of society. During National Family Week, we pause to reflect on the importance of the family—the bedrock of our Nation.

Since I took office, my Administration has empowered families. We are currently in the midst of the longest economic recovery in our Nation's history, which is improving quality of life and stability for families of all types. Thanks to our economic policies, which include eliminating unnecessary and burdensome regulations and the enactment of the Tax Cuts and Jobs Act, we have seen the unemployment rate drop to a half-century low, real median household income reach a record high, and the poverty rate fall to its lowest level since 2001. We have fought for families by securing a doubling of the Child Tax Credit, preserving the Child and Dependent Care Credit, signing into law the largest ever increase in child care and development block grants—a major new investment in child care affordability—and developing a tax credit for employers who offer paid family and medical leave. We continue to call on the Congress to pass a nationwide paid family leave program.

Last year, I signed into law the Family First Prevention Services Act, which reimagines and reorients our Nation's child welfare system toward keeping at-risk families intact in their own homes and communities and minimizing the need for foster care. This legislation provides funding for mental health therapy, family counseling, addiction treatment, and parenting classes. Additionally, we are working to expand adoption providers so that children of all ages in the foster care system can experience what every child deserves—a loving family in a forever home.

For some of our Nation's families, the incarceration of a loved one is a tremendous challenge. My Administration is proud that the reunification and strengthening of families is one of the many benefits of our criminal justice reform efforts. Since maintaining family and community ties is key to the successful reentry of prisoners into society, the bipartisan First Step Act, which I signed into law in 2018, includes provisions that allow inmates to be placed closer to their home communities, which facilitates family visitation. Further, it includes reasonable sentencing reforms that make our criminal justice system fairer by reducing excessive penalties for certain drug offenders, which allows families to reunify more quickly.

This week, we vow always to cherish, honor, protect, and respect the incredible gift of family and renew our commitment to strengthening and celebrating all of our Nation's families. A stable, loving family is one of life's greatest blessings. It provides support, comfort, guidance, acceptance, and joy.

NOW, THEREFORE, I, DONALD J. TRUMP, President of the United States of America, by virtue of the authority vested in me by the Constitution and the laws of the United States, do hereby proclaim November 24 through November 30, 2019, as National Family Week. I invite communities, churches, and individuals to observe this week with appropriate ceremonies and activities to honor our Nation's families.

IN WITNESS WHEREOF, I have hereunto set my hand this twenty-second day of November, in the year of our Lord two thousand nineteen, and of the Independence of the United States of America the two hundred and forty-fourth.

[FR Doc. 2019-25886

Filed 11-26-19; 8:45 am]

Billing code 3295-F0-P